DEPARTMENT OF COMMERCE

Foreign-Trade Zones Board

[B-53-2015]

Foreign-Trade Zone 119—Minneapolis-St. Paul, Minnesota, Application for Additional Production Authority; The Coleman Company, Inc., Subzone 119I, Invitation for Public Comment on Preliminary Recommendation

The FTZ Board is inviting public comment on its staff's preliminary recommendation pertaining to the application of The Coleman Company, Inc. (Coleman) requesting unrestricted production authority within Subzone 119I at the Coleman facility located in Sauk Rapids, Minnesota. Specifically, the application requests unrestricted authority to produce personal flotation devices and flotation cushions using the following inputs in foreign status: Certain nylon and polyester woven fabrics; webbing of man-made fibers; neoprene fabrics; knit polyester fleece fabrics; and, water soluble sensing elements. The FTZ Board staff's analysis of the evidence currently on the record of the proceeding indicates that the applicant has not met the burden of proof as it pertains to the criteria for approval under the FTZ Board's regulations (15 CFR part 400). Therefore, the staff's preliminary recommendation is to not approve the requested authority.

Public comment is invited through July 31, 2017. Rebuttal comments in response to material submitted during the foregoing period may be submitted during the subsequent 15-day period, until August 15, 2017. Submissions shall be addressed to the FTZ Board's Executive Secretary at the address below.

A summary of the FTZ Board's staff's analysis and preliminary recommendation will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-2862.

Dated: June 7, 2017.
Andrew McGilvray,
Executive Secretary.

[FR Doc. 2017-12188 Filed 6-12-17; 8:45 am]

BILLING CODE 3510-DS-P